DEPARTMENT OF ENERGY

Federal Energy Regulatory Commission

Combined Notice of Filings #1

Take notice that the Commission received the following exempt wholesale generator filings:

Docket Numbers: EG25-148-000.

Applicants: BT Hickerson Solar, LLC.

Description: BT Hickerson Solar, LLC submits Notice of Self-Certification of Exempt Wholesale Generator Status.

Filed Date: 2/13/25.

Accession Number: 20250213-5130.

Comment Date: 5 p.m. ET 3/6/25.

Docket Numbers: EG25-149-000.

Applicants: Compadre Solar, LLC.

Description: Compadre Solar, LLC submits Notice of Self-Certification of Exempt Wholesale Generator Status.

Filed Date: 2/13/25.

Accession Number: 20250213-5131.

Comment Date: 5 p.m. ET 3/6/25.

Docket Numbers: EG25-150-000.

Applicants: Blue Summit II Storage, LLC.

Description: Blue Summit II Storage, LLC submits Notice of Self-Certification of Exempt Wholesale Generator Status.

Filed Date: 2/13/25.

Accession Number: 20250213-5133.

Comment Date: 5 p.m. ET 3/6/25.

Docket Numbers: EG25-151-000.

Applicants: Diver Solar, LLC.

Description: Diver Solar, LLC submits Notice of Self-Certification of Exempt Wholesale Generator Status.

Filed Date: 2/13/25.

Accession Number: 20250213-5136.

Comment Date: 5 p.m. ET 3/6/25.

Docket Numbers: EG25-152-000.

Applicants: Roadrunner Crossing Energy Storage, LLC.

Description: Roadrunner Crossing Energy Storage, LLC submits Notice of Self-Certification of Exempt Wholesale Generator Status.

Filed Date: 2/13/25.

Accession Number: 20250213-5138.

Comment Date: 5 p.m. ET 3/6/25.

Docket Numbers: EG25-153-000.

Applicants: Milagro Solar I, LLC.

Description: Milagro Solar I, LLC submits Notice of Self-Certification of Exempt Wholesale Generator Status.

Filed Date: 2/13/25.

Accession Number: 20250213-5158.

Comment Date: 5 p.m. ET 3/6/25.

Docket Numbers: EG25-154-000.

Applicants: Dominguez Grid, LLC.

Description: Dominguez Grid, LLC submits Notice of Self-Certification of Exempt Wholesale Generator Status.

Filed Date: 2/14/25.

Accession Number: 20250214-5072.

Comment Date: 5 p.m. ET 3/7/25.

Take notice that the Commission received the following electric rate filings:

Docket Numbers: ER25-1294-000.

Applicants: Duke Energy Progress, LLC.

Description: 205(d) Rate Filing: DEP-Helena Solar ASOA SA No. 453 to be effective 2/14/2025.

Filed Date: 2/13/25.

Accession Number: 20250213-5091.

Comment Date: 5 p.m. ET 3/6/25.

Docket Numbers: ER25-1295-000.

Applicants: PJM Interconnection, L.L.C.

Description: 205(d) Rate Filing: Original GIA, SA No. 7524 & CSA, SA No. 7525; Project Identifier No. AG1-237 to be effective 1/14/2025.

Filed Date: 2/13/25.

Accession Number: 20250213-5094.

Comment Date: 5 p.m. ET 3/6/25.

Docket Numbers: ER25-1296-000.

Applicants: Ranchland Solar LLC.

Description: Compliance filing: Notice of Succession and Revisions to Rate Schedule to be effective 2/14/2025.

Filed Date: 2/13/25.

Accession Number: 20250213-5100.

Comment Date: 5 p.m. ET 3/6/25.

Docket Numbers: ER25-1297-000.

Applicants: Ranchland Solar LLC.

Description: Compliance filing: Notice of Succession and Revisions to Certificate of Concurrence to SFA to be effective 2/14/2025.

Filed Date: 2/13/25.

Accession Number: 20250213-5101.

Comment Date: 5 p.m. ET 3/6/25.

Docket Numbers: ER25-1298-000.

Applicants: Duke Energy Florida, LLC.

Description: 205(d) Rate Filing: DEF-Seminole Revised RS No. 226 to be effective 5/1/2025.

Filed Date: 2/13/25.

Accession Number: 20250213-5144.

Comment Date: 5 p.m. ET 3/6/25.

Docket Numbers: ER25-1299-000.

Applicants: Milagro Solar I, LLC.

Description: 205(d) Rate Filing: 2025-02-13 Milagro Solar I Petition for Market-Based Rate Tariff & Waivers to be effective 4/14/2025.

Filed Date: 2/13/25.

Accession Number: 20250213-5153.

Comment Date: 5 p.m. ET 3/6/25.

Docket Numbers: ER25-1300-000.

Applicants: Puget Sound Energy, Inc.

Description: 205(d) Rate Filing: Airgas Engineering Services and Construction Agreement to be effective 9/13/2023.

Filed Date: 2/14/25.

Accession Number: 20250214-5000.

Comment Date: 5 p.m. ET 3/7/25.

Docket Numbers: ER25-1301-000.

Applicants: Midcontinent Independent System Operator, Inc.

Description: 205(d) Rate Filing: 2025-02-14_SA 3697 Termination of ITC Midwest-Great Pathfinder Wind E&P (J1050) to be effective 2/15/2025.

Filed Date: 2/14/25.

Accession Number: 20250214-5024.

Comment Date: 5 p.m. ET 3/7/25.

Docket Numbers: ER25-1302-000.

Applicants: Midcontinent Independent System Operator, Inc.

Description: 205(d) Rate Filing: 2025-02-14_SA 4398 Termination of ATC-MPFCA Elm Road to be effective 2/15/2025.

Filed Date: 2/14/25.

Accession Number: 20250214-5025.

Comment Date: 5 p.m. ET 3/7/25.

Docket Numbers: ER25-1303-000.

Applicants: PJM Interconnection, L.L.C.

Description: 205(d) Rate Filing: Amendment to ISA, Service Agreement No. 6157; Queue No. AB2-036 to be effective 4/16/2025.

Filed Date: 2/14/25.

Accession Number: 20250214-5059.

Comment Date: 5 p.m. ET 3/7/25.

Docket Numbers: ER25-1304-000.

Applicants: PJM Interconnection, L.L.C.

Description: 205(d) Rate Filing: Original GIA Service Agreement No. 7529; Project Identifier No. AF2-424/AF2-425 to be effective 1/15/2025.

Filed Date: 2/14/25.

Accession Number: 20250214-5065.

Comment Date: 5 p.m. ET 3/7/25.

Docket Numbers: ER25-1305-000.

Applicants: Tri-State Generation and Transmission Association, Inc.

Description: Tariff Amendment: Notice of Cancellation of Mountain Parks' Rate Schedules to be effective 2/1/2025.

Filed Date: 2/14/25.

Accession Number: 20250214-5096.

Comment Date: 5 p.m. ET 3/7/25.

Docket Numbers: ER25-1306-000.

Applicants: Tri-State Generation and Transmission Association, Inc.

Description: Tariff Amendment: Notice of Cancellation of Rate Schedule FERC No. 265 to be effective 2/1/2025.

Filed Date: 2/14/25.

Accession Number: 20250214-5097.

Comment Date: 5 p.m. ET 3/7/25.

Docket Numbers: ER25-1307-000.

Applicants: PJM Interconnection, L.L.C.

Description: 205(d) Rate Filing: Amendment to WMPA, SA No. 3930; Queue No. Z1-108 to be effective 4/16/2025.

Filed Date: 2/14/25.

Accession Number: 20250214-5103.

Comment Date: 5 p.m. ET 3/7/25.

Docket Numbers: ER25-1308-000.

Applicants: Public Service Company of Colorado.

Description: 205(d) Rate Filing: 2025-02-14—PSC-WAPA-O&M Agrmt-350-PSCo Concurrence to be effective 10/10/2024.

Filed Date: 2/14/25.

Accession Number: 20250214-5111.

Comment Date: 5 p.m. ET 3/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 14, 2025.
Carlos D. Clay,
Deputy Secretary.

[FR Doc. 2025-02933 Filed 2-20-25; 8:45 am]

BILLING CODE 6717-01-P